DEPARTMENT OF LABOR

Employment and Training Administration

[TA-W-63,222]

Brockway Mould, Inc., Brockport, PA; Notice of Termination of Investigation

In accordance with Section 221 of the Trade Act of 1974, as amended, an investigation was initiated on April 21, 2008 in response to a worker petition filed by a company official on behalf of workers of Brockway Mould, Inc., Brockport, Pennsylvania.

The petitioner has requested that the petition be withdrawn. Consequently, the investigation has been terminated.

Signed in Washington, DC, this 29th day of April, 2008.
Richard Church,
Certifying Officer, Division of Trade Adjustment Assistance.

[FR Doc. E8-10028 Filed 5-6-08; 8:45 am]

BILLING CODE 4510-FN-P